DEPARTMENT OF AGRICULTURE

Forest Service

Fishlake National Forest; Utah; Southern Monroe Mountain Allotments Livestock Grazing Authorization

AGENCY: Forest Service, Agriculture (USDA).

ACTION: Notice of intent to prepare an environmental impact statement.

SUMMARY: The Forest Service will prepare an environmental impact statement (EIS) to disclose the environmental impacts of proposed land management activities and corresponding alternatives within the Southern Monroe Mountain Allotments Livestock Grazing Authorization project area. The project is located on National Forest System lands, administered by the Richfield Ranger District, south of Richfield, Utah. These six allotments are in Sevier and Piute Counties and cover multiple sections in Ranges 1, 2, 2.5, and 3 West and in Townships 26, 27, 28, and 29 South.

DATES: Comments concerning the scope of the analysis must be received by October 26, 2020. The draft environmental impact statement is expected June 2021 and the final environmental impact statement is expected February 2022.

ADDRESSES: Send written comments to: Mike Elson, Attention: Southern Monroe Mountain Allotments Livestock Grazing Authorization, Fishlake National Forest, 115 East 900 North, Richfield, Utah 84701. Comments may also be sent via email to comments-intermtn-fishlake-richfield@usda.gov, or via facsimile to 435-896-9347.

FOR FURTHER INFORMATION CONTACT: Jason Kling, Richfield District Ranger, 115 East 900 North, Richfield, Utah 84701, by phone at phone 435-896-9233 or email at jason.kling@usda.gov.

Individuals who use telecommunication devices for the deaf (TDD) may call the Federal Information Relay Service (FIRS) at 1-800-877-8339 between 8 a.m. and 8 p.m., Eastern Time, Monday through Friday.

SUPPLEMENTARY INFORMATION: The purpose of the Southern Monroe Mountain Allotments Livestock Grazing Authorization is to implement land management activities that are consistent with direction in the Fishlake National Forest Land and Resource Management Plan (Forest Plan) and respond to specific needs identified in the project area. The project-specific needs include the consideration of livestock grazing to be authorized on the Dry Lake, Forshea, Kingston, Koosharem, Manning Creek, and Rock Springs Allotments and managed in a manner that allows for healthy, resilient, and sustainable vegetation. The information presented in this notice was included to help the reviewer determine if they are interested in or potentially affected by the proposed land management activities. The information presented in this notice is summarized. Those who wish to provide comments, or are otherwise interested in or affected by the project, are encouraged to obtain additional information from the contact identified in the FOR FURTHER INFORMATION CONTACT section. Additionally, project detailed information, including maps may be found on the web at: www.fs.usda.gov/goto/fishlake/projects.

Purpose and Need for Action

In accordance with the Forest Plan, the purpose of this action is to consider and authorize livestock grazing opportunities on the Dry Lake, Forshea, Kingston, Koosharem, Manning Creek, and Rock Springs Allotments. For more information regarding the Purpose and Need for Action refer to the website in the Supplementary Information section.

Proposed Action

This proposed action for the Southern Monroe Mountain Allotments Livestock Grazing Authorization consists of five components: Authorization, improvements, monitoring, adaptive management, and management practices.

The Richfield Ranger District, Fishlake National Forest, proposes to authorize grazing in a manner that is consistent with Forest Plan standards, guidelines, and objectives and maintains or improves natural resource conditions.

Livestock grazing would be authorized on the Dry Lake, Forshea, Kingston, Koosharem, Manning Creek, and Rock Springs allotments. For more information regarding the Proposed Action refer to the website in the Supplementary Information section.

Responsible Official

The Fishlake Forest Supervisor, Mike Elson, is the Responsible Official making project-level decisions.

Nature of Decision To Be Made

Decision-making will be limited to specific activities relating to the proposed action. The primary decision to be made will be whether or not to implement the proposed action or another alternative that responds to the project's purpose and need.

Scoping Process

This notice of intent initiates the scoping process, which guides the development of the environmental impact statement. Additionally, separate meetings will be held with permittees, state and county officials, and known interested stakeholders.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered as well; however, those who participate in the comment process anonymously will not have standing to object.

Jacqueline Emanuel,
Acting Associate Deputy Chief, National Forest System.

[FR Doc. 2020-19955 Filed 9-9-20; 8:45 am]

BILLING CODE 3411-15-P